OFFICE OF PERSONNEL MANAGEMENT

[OMB Control No. 3206-0215; RI 25-49]

Proposed Information Collection; Request for Comments on an Existing Information Collection

AGENCY: Office of Personnel Management.

ACTION: Notice.

SUMMARY: In accordance with the Paperwork Reduction Act of 1995 (Pub. L. 104-13, May 22, 1995), this notice announces that the Office of Personnel Management (OPM) intends to submit to the Office of Management and Budget (OMB) a request for review of an existing information collection. This information collection, “Verification of Full-Time School Attendance” (OMB Control No. 3206-0215; form RI 25-49), is used to verify that adult student annuitants are entitled to payments. OPM must confirm that a full-time enrollment has been maintained.

Comments are particularly invited on whether this collection of information is necessary for the proper performance of functions of the Office of Personnel Management, and whether it will have practical utility; whether our estimate of the public burden of this collection is accurate and based on valid assumptions and methodology; and ways in which we can minimize the burden of the collection of information on those who are to respond through use of the appropriate technological collection techniques or other forms of information technology.

Approximately 10,000 RI 25-49 forms are completed annually. This form will take approximately 60 minutes to complete. The annual estimated burden is 10,000 hours.

For copies of this proposal, contact Cyrus S. Benson by telephone at (202) 606-4808, by FAX (202) 606-0910, or by e-mail at Cyrus.Benson@opm.gov. Please include a mailing address with your request.

DATES: Comments on this proposal should be received within 60 calendar days of the date of this publication.

ADDRESSES: Send or deliver comments to: Ronald W. Melton, Deputy Assistant Director, Retirement Services Program, Center for Retirement and Insurance Services, U.S. Office of Personnel Management, 1900 E Street, NW., Room 3305, Washington, DC 20415-3500.

For information regarding Administrative Coordination contact: Cyrus S. Benson, Team Leader, Publications Team, RIS Support Services/Support Group, U.S. Office of Personnel Management, 1900 E Street, NW., Room 4H28, Washington, DC 20415, (202) 606-0623.

Office of Personnel Management.
Howard Weizmann,
Deputy Director.

[FR Doc. E8-28441 Filed 11-28-08; 8:45 am]

BILLING CODE 6325-38-P